DEPARTMENT OF COMMERCE

National Oceanic and Atmospheric Administration

RIN 0648-XV94

Endangered Species; File No. 14604

AGENCY: National Marine Fisheries Service (NMFS), National Oceanic and Atmospheric Administration (NOAA), Commerce.

ACTION: Issuance of permit.

SUMMARY: Notice is hereby given that Harold Brundage, Environmental Research and Consulting, Inc, 126 Bancroft Road, Kennett Square, PA 19348, has been issued a permit to take shortnose sturgeon (Acipenser brevirostrum) for purposes of scientific research.

ADDRESSES: The permit and related documents are available for review upon written request or by appointment in the following office(s):

• Permits, Conservation and Education Division, Office of Protected Resources, NMFS, 1315 East-West Highway, Room 13705, Silver Spring, MD 20910; phone (301) 713-2289; fax (301) 713-0376; and

• Northeast Region, NMFS, Protected Resources Division, 55 Great Republic Drive, Gloucester, MA 01930; phone (978) 281-9328; fax (978) 281-9394.

FOR FURTHER INFORMATION CONTACT: Malcolm Mohead or Kate Swails, (301) 713-2289.

SUPPLEMENTARY INFORMATION: On November 19, 2009, notice was published in the Federal Register (74 FR 59961) that a request for a scientific research permit to take shortnose sturgeon had been submitted by the above-named organization. The requested permit has been issued under the authority of the Endangered Species Act of 1973, as amended (ESA; 16 U.S.C. 1531 et seq.) and the regulations governing the taking, importing, and exporting of endangered and threatened species (50 CFR parts 222-226).

The applicant is authorized to conduct a five-year scientific study of shortnose sturgeon in the Delaware River where primary study objectives are to characterize habitat use, relative abundance, reproduction, juvenile recruitment, temporal and spatial distributions, and reproductive health of the shortnose sturgeon population in the Delaware River and Estuary. The permit authorizes non-lethal sampling methods on up to 1,000 adult and juvenile shortnose sturgeon annually. Research activities will include: capturing via gill net, trammel net, and trawl net; measuring and weighing; tagging with external identifier PIT and Floy T-bar tags; and sampling tissue for genetic analysis. A subset of 30 adults and 30 juveniles per year will be tagged with acoustic transmitters and tracked. Another subset of 24 adults will be annually examined internally using laparoscopic techniques, with each potentially having gonad biopsy and blood samples taken for analyses. Another subset of 20 adults per year will be included in hydroacoustic gear testing. Additionally, lethal takes of up to 300 eggs or larvae each year will be collected during seasonal spawning activity with gear such as artificial substrate, D-frame ichthyoplankton net, and/or epibenthic sled. Finally, up to one unintentional mortality or serious injury is permitted annually, with no more than three mortalities over the five year permit. Issuance of this permit, as required by the ESA, was based on a finding that such permit (1) was applied for in good faith, (2) will not operate to the disadvantage of such endangered or threatened species, and (3) is consistent with the purposes and policies set forth in section 2 of the ESA.

Dated: April 20, 2010.
P. Michael Payne,
Chief, Permits, Conservation and Education Division, Office of Protected Resources, National Marine Fisheries Service.

[FR Doc. 2010-9620 Filed 4-23-10; 8:45 am]

BILLING CODE 3510-22-S